DEPARTMENT OF THE INTERIOR

Bureau of Land Management

[HAG # 8-0020]

Notice of Intent To Revise a Resource Management Plan and the Associated Environmental Impact Statement for the Baker Resource Area of the Vale District

AGENCY: Bureau of Land Management, Interior

ACTION: Notice of intent.

SUMMARY: The Bureau of Land Management (BLM) Field Office, Baker City, Oregon intends to revise a Resource Management Plan (RMP) with an associated Environmental Impact Statement (EIS) for the Baker Resource Area of the Vale District and by this notice is announcing public scoping meetings. The RMP will revise the existing Baker Resource Management Plan of 1989.

DATES: The BLM will announce public scoping meetings to identify relevant issues through local news media, newsletters, and the BLM Web site http://www.blm.gov/or/districts/vale/index.php at least 15 days prior to the first meeting. We will provide formal opportunities for public participation upon publication of the Draft RMP/EIS.

ADDRESSES: You may submit comments by any of the following methods:

• E-mail: BakerRMP@blm.gov.

• Fax: 541-523-1965.

• Mail: Bureau of Land Management, Baker Field Office, P.O. Box 947, Baker City, OR 97814.

Documents pertinent to this proposal may be examined at the BLM Baker Field Office.

FOR FURTHER INFORMATION CONTACT: For further information and/or to have your name added to our mailing list, Contact: Allison Kuehl, RMP Team Leader, Telephone: 541-523-1931; E-mail: allison_kuehl@blm.gov.

SUPPLEMENTARY INFORMATION: This document provides notice that the BLM Field Office, Baker City, Oregon, intends to revise an RMP with an associated EIS for the Baker Resource Area and announces public scoping meetings.

The planning area is located in Baker, Union, Wallowa, Morrow, and Umatilla Counties in Oregon and in Asotin County, Washington. This planning activity encompasses approximately 423,000 acres of public land. The plan will fulfill the needs and obligations set forth by the National Environmental Policy Act (NEPA), the Federal Land Policy and Management Act (FLPMA), and BLM management policies. The BLM will work collaboratively with interested parties to identify the management decisions that are best suited to local, regional, and national needs and concerns.

The purpose of the public scoping process is to determine relevant issues, concerns and ideas that will influence the scope of the environmental analysis and EIS alternatives. These issues also guide the planning process. You may submit comments on issues and planning criteria in writing to the BLM at any public scoping meeting, or you may submit them to the BLM using one of the methods listed in the ADDRESSES section above. To be most helpful, you should submit formal scoping comments within 30 days after the last public meeting. The minutes for each scoping meeting will be available to the public and open for 30 days after the meeting to any participant who wishes to clarify the views he or she expressed. Before including your address, phone number, e-mail address, or other personal identifying information in your comment, you should be aware that your entire comment—including your personal identifying information—may be made publicly available at any time. While you can ask us in your comment to withhold your personal identifying information from public review, we cannot guarantee that we will be able to do so. All submissions from organizations or businesses, and from individuals identifying themselves as representatives or officials of organizations or businesses, are available for public inspection in their entirety.

Preliminary issues and management concerns have been identified. They represent the BLM's knowledge to date regarding the existing issues and concerns with current land management. The preliminary issues being considered in this planning effort include: vegetation management; water quality, aquatic resources, fisheries; special management areas; recreation management; cultural and paleontological resources; socioeconomics and environmental justice; energy and minerals; lands and realty; transportation, including Off Highway Vehicle management, and public access; fire and fuels management; wildlife habitat and wildlife.

After public comments as to what issues the plan should address are gathered, they will be placed in one of three categories:

1. Issues to be resolved in the plan;

2. Issues to be resolved through policy or administrative action; or

3. Issues beyond the scope of this plan.

The BLM will provide an explanation in the plan as to why we placed an issue in category two or three. In addition to these major issues, a number of management questions and concerns will be addressed in the plan. The public is encouraged to help identify these questions and concerns during the scoping phase.

Preliminary planning criteria are:

1. The BLM will manage the Baker Resource Area to protect resources in accordance with the Federal Land Policy and Management Act of 1976 (FLPMA, 43 U.S.C. 1701 et seq.), other applicable laws and regulations, and all existing public land laws.

2. The Plan will recognize valid existing rights within the Planning Area and review how valid existing rights are verified. The Plan will outline the process the BLM will use to address applications or notices filed on existing claims or other land use authorizations after the completion of the Plan.

3. Lands covered in the RMP will be public lands, including split estate lands, managed by BLM. Decisions on lands not managed by the BLM will not be made in the RMP except when formal cooperator status is mutually accepted and leads to additional Records of Decision.

4. The BLM will use a collaborative and multi-jurisdictional approach, where possible to jointly determine the desired future conditions of public lands.

5. The Plan will emphasize the protection and enhancement of the Planning Area's biodiversity while at the same time providing the public with opportunities for compatible commodity-based and recreation activities.

6. The socioeconomic impacts of the alternatives will be addressed.

7. The BLM will use current scientific information, research, technologies, and results of inventory, monitoring and coordination to determine appropriate local, and regional management strategies that will enhance or restore impaired ecosystems.

8. The planning process will include an EIS that will comply with NEPA standards.

9. Any land located within the Planning Area's administrative boundary, and subsequently acquired by the BLM, will be managed consistent with the Plan, subject to any constraints associated with the acquisition.

10. The Plan will recognize the State's responsibility to manage wildlife. The BLM would consult with Oregon Department of Fish and Wildlife before establishing no-hunting zones or periods for the purposes of protecting public safety, administration, or public use and enjoyment.

11. The Plan will address transportation and access, and will identify where better access is warranted, where it should remain as is, and where decreased access is appropriate to protect Planning Area resources.

12. Laws and regulations regulate grazing management. The Plan will incorporate the Rangeland Health Standards and Guidelines. It will provide a strategy to ensure proper grazing practices are followed within the Planning Area.

13. The planning process will involve American Indian Tribal governments and will provide possible strategies for the protection of recognized traditional uses, if such uses are identified.

14. Decisions in the Plan will strive to be compatible with existing plans and policies of adjacent local, State, Federal, and tribal agencies as long as the decisions are consistent with Federal law governing the administration of public land.

The BLM will use an interdisciplinary approach to develop the revision in order to consider the variety of resource issues and concerns identified. Specialists with expertise in the following disciplines will be involved in the planning process: rangeland management, minerals and geology, forestry, fire and fuels, outdoor recreation, archaeology, paleontology, wildlife and fisheries, lands and realty, hydrology, soils, sociology, and economics.

Dated: January 8, 2008.
Nancy K. Lull,
Baker City Field Manager.

[FR Doc. E8-520 Filed 1-14-08; 8:45 am]

BILLING CODE 4310-33-P